DEPARTMENT OF ENERGY

Federal Energy Regulatory Commission

[Docket No. CP96-684-001]

Interenergy Sheffield Processing Company, Bear Paw Energy, L.L.C.; Notice of Filing

February 3, 2000.

Take notice that on January 28, 2000, Bear Paw Energy, L.L.C., a Delaware limited liability company, whose mailing address is 3170 17th Street, Suite 2750, Denver, Colorado 80202, filed in Docket No. CP96-684-001, a request seeking that the Section 3 authorization and Presidential Permit held in the name of its predecessor company, Interenergy Sheffield Processing Company, be changed to recognize its company's reorganization and change in its corporate name, all as more fully set forth in the filing which is on file with the Commission and open to public inspection.

Bear Paw Energy, L.L.C. states that in 1997 a Section 3 authorization and Presidential Permit were granted in the above captioned proceeding to Interenergy Sheffield Processing Company (Interenergy Sheffield), a general partnership between Bear Paw Energy Inc. and Interenergy Corporation. These authorizations permitted Interenergy Sheffield, an otherwise non-jurisdictional natural gas gathering and processing system, to construct and operate natural gas facilities at the International Boundary line near Portal, North Dakota, to import gas from Canada. Bear Paw Energy, L.L.C. also states that, in 1998, Bear Paw Energy Inc. became the sole and direct owner of the gathering and processing system and the border crossing facilities. In the present filing, Bear Paw Energy, L.L.C. informs the Commission that, as of January 20, 2000, Bear Paw Energy Inc. was merged into a Delaware limited liability company, with its ultimate name change to Bear Paw Energy, L.L.C. Bear Paw Energy, L.L.C. states that these transactions do not, in any way, alter the operation of the gathering and processing system or the border crossing facilities.

Bear Paw Energy, L.L.C. requests that the Commission modify its records in the above captioned proceeding to reflect the final name change, such that the Section 3 authorization and Presidential Permit previously granted to Interenergy Sheffield will hereafter be in the name of Bear Paw Energy, L.L.C. In the alternative, Bear Paw Energy, L.L.C. requests that a new Section 3 authorization and Presidential Permit be granted in its own name.

Any person desiring to be heard or to make any protest with reference to said filing should, on or before, February 22, 2000, file with the Federal Energy Regulatory Commission, Washington, DC 20426, a protest or motion to intervene in accordance with the requirements of Rule 211 or 214 of the Commission's Rules of Practice and Procedure (18 CFR 385.211 or 385.214). All protests filed with the Commission will be considered in determining the appropriate action to be taken, but will not serve to make the Protestants parties to the proceeding. Any person wishing to become a party to a proceeding or to participate as a party in any hearing therein must file a motion to intervene in accordance with the Commission's Rules.

David P. Boergers,
Secretary.

[FR Doc. 00-2886 Filed 2-8-00; 8:45 am]

BILLING CODE 6717-01-M